DEPARTMENT OF LABOR

Employment and Training Administration

[NAFTA-07639]

Trans World Connections, LTD, Lynchburg, VA; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on October 23, 2002, in response to a petition filed by a company official on behalf of workers at Trans World Connections, Ltd., Lynchburg, Virginia.

The petitioner has requested that the petition be withdrawn. Consequently, further investigation in this case would serve no purpose and the investigation has been terminated.

Signed at Washington, DC, this 13th day of November 2002.
Elliott S. Kushner,
Certifying Officer, Division of Trade Adjustment Assistance.

[FR Doc. 02-30189 Filed 11-27-02; 8:45 am]

BILLING CODE 4510-30-P